NUCLEAR REGULATORY COMMISSION

10 CFR Parts 71 and 72

[NRC-2013-0004]

Retrievability, Cladding Integrity and Safe Handling of Spent Fuel at an Independent Spent Fuel Storage Installation and During Transportation

AGENCY: Nuclear Regulatory Commission.

ACTION: Request for comments for potential rulemaking.

SUMMARY: The regulations for packaging and transport of spent nuclear fuel are separate from requirements for storage of spent nuclear fuel. Because these regulatory schemes are separate, there is no requirement that loaded storage casks also meet transportation requirements. Integration of storage and transport regulations could enable a more predictable transition from storage to transport by potentially minimizing future handling of spent fuel and uncertainty as to whether loaded storage casks may be transported from the storage location. As part of its evaluation of integration and compatibility between storage and transportation regulations, the U.S. Nuclear Regulatory Commission (NRC) staff is reviewing its policies, regulations, guidance, and technical needs in several key areas, such as: retrievability, cladding integrity, and safe handling of spent fuel; criticality safety features and requirements for spent fuel transportation; and aging management and qualification of dual-purpose canisters and components after long-term storage. The NRC staff is reviewing the potential policy issues and requirements related to retrievability, cladding integrity, and safe handling of spent fuel as the lead issue for evaluating compatibility of storage and transportation regulations. As part of its evaluation of integration and compatibility between NRC's storage regulations and transportation regulations, the NRC is issuing this request for comment (available in the NRC's Agencywide Documents Access and Management System (ADAMS) under Accession No. ML12293A434) as the staff begins its review of NRC policies, guidance, and technical needs related to retrievability, cladding integrity, and safe handling of spent fuel.

DATES: Submit comments by March 18, 2013. Comments received after the comment period deadline will be considered if it is practical to do so, but the NRC is only able to ensure consideration of comments received on or before the end of the public comment period.

ADDRESSES: You may access information and comment submissions related to this document, which the NRC possesses and are publicly available, by searching on http://www.regulations.gov under Docket ID NRC-2013-0004. You may submit comments by any of the following methods (unless this document describes a different method for submitting comments on a specific subject):

• Federal Rulemaking Web site: Go to http://www.regulations.gov and search for Docket ID NRC-2013-0004. Address questions about NRC dockets to Carol Gallagher; telephone: 301-492-3668; email: Carol.Gallagher@nrc.gov.

• Mail comments to: Cindy Bladey, Chief, Rules, Announcements, and Directives Branch (RADB), Office of Administration, Mail Stop: TWB-05-B01M, U.S. Nuclear Regulatory Commission, Washington, DC 20555-0001.

• Fax comments to: RADB at 301-492-3446.

For additional direction on accessing information and submitting comments, see “Accessing Information and Submitting Comments” in the SUPPLEMENTARY INFORMATION section of this document.

FOR FURTHER INFORMATION CONTACT: Bernard White, Office of Nuclear Material Safety and Safeguards, U.S. Nuclear Regulatory Commission, Washington, DC 20555-0001; telephone: 301-492-3303, or email: Bernard.White@nrc.gov.

SUPPLEMENTARY INFORMATION:

I. Accessing Information and Submitting Comments

A. Accessing Information

Please refer to Docket ID NRC-2013-0004 when contacting the NRC about the availability of information regarding this document. You may access information related to this document, which the NRC possesses and are publicly available, by any of the following methods:

• Federal Rulemaking Web Site: Go to http://www.regulations.gov and search for Docket ID NRC-2013-0004.

• ADAMS: You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced. The request for comment document is available in ADAMS under Accession No. ML12293A434.

• NRC's PDR: You may examine and purchase copies of public documents at the NRC's PDR, Room O1-F21, One White Flint North, 11555 Rockville Pike, Rockville, Maryland 20852.

B. Submitting Comments

Please include Docket ID NRC-2013-0004 in the subject line of your comment submission, in order to ensure that the NRC is able to make your comment submission available to the public in this docket.

The NRC cautions you not to include identifying or contact information that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Background

After more than 20 years of regulatory experience with dry cask storage and in the anticipation of longer storage durations and with more nuclear power plants storing high burnup fuel (fuel with peak rod average burnup greater than 45,000 MWd/MTU is considered high burnup fuel), the NRC is reviewing its policies and regulatory framework for dry cask storage and spent fuel transportation in several key areas. As discussed in COMSECY-10-0007, “Project Plan for the Regulatory Program Review to Support Extended Storage and Transportation of Spent Nuclear Fuel” (ADAMS Accession No. ML101390216), the NRC is currently evaluating its spent fuel storage and transportation regulatory structure. The goal of this review is to identify areas for enhancing the regulatory framework (e.g. regulations, guidance, procedures and processes) to incorporate past regulatory knowledge and experience, and to ensure long-term stability and effectiveness of NRC's future dry cask storage and transportation program. NRC expects to consider a number of issues for which NRC will request public input early in the decisionmaking process. Current regulatory areas that NRC has identified for evaluation and potential enhancement include: (1) Compatibility and integration of storage and transportation requirements; (2) streamlining the process for spent fuel storage cask design certification; (3) administration of storage certificates of compliance and amendments to certificates of compliance; (4) applicability, compatibility, and consistency of the storage regulatory framework; and (5) regulating stand-alone ISFSIs. The NRC staff held two public meetings on July 27, 2011 and August 16, 2012, (see http://www.nrc.gov/waste/spent-fuel-storage/public-involvement.html for more information on these two meetings) to solicit initial stakeholder feedback on these topics. This is the first of a series of requests for stakeholder input related to these topics that NRC expects to issue during its review of its storage and transportation regulatory framework.

III. NRC Consideration of Public Comments

The NRC does not intend to provide detailed comment responses to information provided by stakeholders in response to this request. The NRC staff will consider timely comments on this request in its evaluation of policy issues on retrievability, cladding integrity and safe handling of spent fuel. In its efforts to enhance the efficiency and effectiveness of the regulatory framework for spent fuel storage and transportation, NRC may ultimately revise regulations or guidance. Stakeholders will have the opportunity to participate in any future rulemaking or guidance developments.

Dated at Rockville, Maryland, this 31st day of December, 2012.
For the Nuclear Regulatory Commission.
Mark Lombard,
Director, Division of Spent Fuel Storage and Transportation, Office of Nuclear Material Safety and Safeguards.

[FR Doc. 2013-00478 Filed 1-16-13; 8:45 am]

BILLING CODE 7590-01-P